DEPARTMENT OF THE INTERIOR

National Park Service

Golden Gate National Recreation Area; Notice of Public Open Houses for Calendar Year 2007

Notice is hereby given that public Open Houses of the Golden Gate National Recreation Area (GGNRA) will be scheduled in calendar year 2007 to distribute information and provide public involvement on issues related to management of the GGNRA. These Open Houses are scheduled for the following dates in San Francisco and at locations yet to be determined in San Mateo County and Marin County, California:

Tuesday, February 27, 4 p.m.—Marin County, CA location (TBA).

Tuesday, May 22, 4 p.m.—Park Headquarters, Fort Mason, San Francisco, CA.

Tuesday, September 18, 4 p.m.—Pacific, CA location (TBA).

Tuesday, November 27, 4 p.m.—Park Headquarters, Fort Mason, San Francisco, CA.

All Open Houses will start at 4 p.m. Information confirming the time and location of all public meetings or cancellations of any meetings can be received by calling the Office of the Public Affairs at (415) 561-4733. Public Open House agendas and all documents for public scoping and public comment on issues listed below can be found on the park Web site at http://www.nps.gov/goga.

Anticipated possible agenda items at meetings during calendar year 2007 include:

• Redwood Creek Coastal Wetland Restoration Project (Big Lagoon Wetland and Creek Restoration Project) Draft Environmental Impact Statement [DEIS].

• Marin Headlands-Fort Baker Transportation Plan Draft Environmental Impact Statement [DEIS].

• Golden Gate National Recreation General Management Plan Update Draft Environmental Impact Statement [DEIS].

• San Francisco Muni E-Line Extension Project Environmental Impact Statement [EIS].

• GGNRA Dog Management Plan.

• Crissy Marsh Expansion Project NEPA Document.

• Mori Point Trail and Restoration Plan Environmental Assessment [EA].

• Dias Ridge and Coast View Trails Rehabilitation and Access Improvement Project Environmental Assessment [EA].

• Maintenance Facility Interim Relocation Project Environmental Assessment [EA].

• Equestrian Planning Project Environmental Assessment [EA].

• Lower Redwood Creek Restoration Project Environmental Assessment [EA].

• Headlands Institute Campus Improvement Project Environmental Assessment [EA].

• Tennessee Valley Trail Improvement Project.

Specific final agendas for these meetings will be made available to the public at least 15 days prior to each meeting and can be received by contacting the Office of the Staff Assistant, Golden Gate National Recreation Area, Building 201, Fort Mason, San Francisco, California 94123 or by calling (415) 561-4733. They are also noticed on the Golden Gate National Recreation Area Web site http://www.nps.gov/goga under the section “Public Meetings”.

All Open Houses are open to the public. Sign language interpreters are available by request at least one week prior to a meeting. The TDD phone number for these requests is (415) 556-2766. For copies of the agendas contact the Office of the Staff Assistant, Golden Gate National Recreation Area, Building 201, Fort Mason, San Francisco, California 94123, or call (415) 561-4733.

Dated: December 18, 2006.
Brian O'Neill,
General Superintendent, Golden Gate National Recreational Area.

[FR Doc. 07-655 Filed 2-13-07; 8:45 am]

BILLING CODE 4312-FN-M